DEPARTMENT OF AGRICULTURE

Forest Service

Vegetation Management for Reforestation

AGENCY: Forest Service, USDA.

ACTION: Notice of intent to prepare a supplemental environmental impact statement.

SUMMARY: The Department of Agriculture, Forest Service, Pacific Southwest Region (Region) will prepare a supplemental environmental impact statement (SEIS) to the Region's 1988 EIS “Vegetation Management for Reforestation” as directed by the Court in a recent United States District Court Decision in Californians for Alternatives to Toxics, Et Al. v. Michael Dombeck, Et Al., CIV. S-00-2016 LKK/JFM. This SEIS will analyze environmental effects at the programmatic level on animal endrocrine disruption, immunotoxicity, and neurotoxicity, associated with the use of the herbicides glyphosate and triclopyr during reforestation projects in the Region.

DATES: The public is not asked to provide any additional information at this time. A draft SEIS will be circulated for public review in March, 2002. The comment period for the draft SEIS will extend 45 days from the date its availability is published in the Federal Register and the Sacramento Bee, the Newspaper of Record. A final SEIS is expected to be released in May, 2002.

FOR FURTHER INFORMATION CONTACT: John Fiske, Team Leader, USDA Forest Service, 1323 Club Drive, Vallejo, CA 94592. Phone number (707) 562-8687.

SUPPLEMENTARY INFORMATION:

Background

The Region prepared a final programmatic EIS “Vegetation Management for Reforestation” in December, 1988, and issued a Record of Decision (ROD) in February, 1989. The EIS analyzed and disclosed environmental effects of eight alternatives, six of which involved application of up to thirteen different herbicides, including glyphosate and triclopyr. The selected alternative in the ROD established broad Regional policy as to methods that may be used to control competing vegetation during reforestation projects. This policy permits consideration of all methods at the project-specific planning level, but requires that herbicides be used only where essential to achieve the project-specific resource management objectives. This policy reflected National USDA policy at that time. The ROD also established specific restrictions on uses of certain herbicides.

A recent Court decision, based on a lawsuit filed by the Californians for Alternatives to Toxics and two other organizations opposing implementation of the Cottonwood Fire Vegetation Management Project (Sierraville Ranger District, Tahoe National Forest), ordered the Forest Service to supplement this programmatic EIS to disclose specific environmental effects. These effects are endrocrine disruption, immunotoxicity, and neurotoxicity in humans and other animals, associated with the use of glyphosate and triclopyr during reforestation projects in the Region.

Proposed Action

The Forest Service proposes to Supplement the EIS, as directed by the Court.

Scoping Process

This Notice of Intent will not initiate an additional scoping process. The Judge's Order in Californians for Alternatives to Toxics, Et Al. v. Michael Dombeck, Et Al., CIV. S-00-2016 LKK/JFM identified the scope of the draft SEIS. No additional public comment is invited on this proposal to prepare the draft SEIS.

Decision To Be Made and Responsible Official

The Regional Forester, Pacific Southwest Region, will decide whether, and if so how, to revise the ROD for the EIS.

The responsible official is the Regional Forester, 1323 Club Drive, Vallejo, California 94592.

Coordination With Other Agencies

The Forest Service is the lead agency with the responsibility to prepare this draft SEIS. Other agencies and local governments will be invited to participate, as appropriate.

Commenting

A draft SEIS is expected to be available for public review and comment in March, 2002. The comment period for the draft SEIS will extend 45 days from the date its availability is published in the Federal Register and in the Sacramento Bee, the Newspaper of Record.

Comments received on the draft SEIS, including names and addresses of those who comment, will be considered part of the public record for this proposed action, and will be available for public inspection. Additionally, pursuant to 7 CFR 1.27(d), any persons may request the agency to withhold a submission from the public record by showing how the Freedom of Information (FOIA) permits such confidentiality. Persons requesting such confidentiality should be aware that, under the FOIA, confidentiality may be granted in only very limited circumstances, such as to protect trade secrets. The Forest Service will inform the requester of the Agency's decision regarding the request for confidentiality, and where the request is denied, the Agency will return the submission and notify the requester that the comments may be resubmitted with or without name and address.

The Forest Service believes that it is important to give reviewers notice of several court rulings related to public participation in the environmental review process. First, reviews of draft environmental impact statements must structure their participation in the environmental review of the proposal so that it is meaningful and alerts the agency to the reviewer's position and contentions. Vermont Yankee Nuclear Power Corp. v. NRDC, 435 U.S. 519, 533 (1978). Also, environmental objections that could be raised at the draft environmental impact statement stage, but that are not raised until after completion of the final environmental impact statement, may be waived or dismissed by the courts. City of Angoon v. Hodel, 803 F.2d 1016, 1022 (9th Cir. 1986) and Wisconsin Heritage, Inc. v. Harris, 490 F. Supp. 1334 (E.D. Wis. 1980). Because of these court rulings, it is very important that those interested in this proposed action participate by the close of the 45-day comment period so that substantive comments and objections are made available to the Forest Service at a time when the Agency can meaningfully consider them and respond to them in the final supplemental environmental impact statement.

Comments on the draft SEIS should be as specific as possible. It is also helpful if comments refer to specific pages or chapters of the draft supplemental statement. Comments may also address the adequacy of the draft SEIS. Reviewers may wish to refer to the Council on Environmental Quality Regulations for implementing the procedural provisions of the National Environmental Policy Act at 40 CFR 1503.3 in addressing these points.

Dated: January 24, 2002.
Jack A. Blackwell,
Regional Forester, Pacific Southwest Region.

[FR Doc. 02-2310 Filed 1-30-02; 8:45 am]

BILLING CODE 3410-11-M